DEPARTMENT OF HEALTH AND HUMAN SERVICES

Centers for Disease Control and Prevention

National HIV Prevention Planned Meetings; Cancellation

In accordance with section 10(a)(2) of the Federal Advisory Committee Act (Pub. L. 92-463), the Centers for Disease Control and Prevention (CDC) announces the Cancellation of Meetings.

This notice announces the cancellation of previously announced meetings.

Federal Register: July 5, 2000 (Volume 65, Number 129) Notices Page 41471

Name: National HIV Prevention Plan Meetings

Time and Date: 9 a.m.-12 p.m. (Noon)

Tuesday—July 18, 2000

Hotel Pennsylvania, 401 7th Avenue, New York, NY 10001, Phone: 212-736-5000.

Wednesday—July 26, 2000

Crowne Plaza-Houston, 2222 West Loop South, Houston, TX 77027, Phone: 713-961-7272.

Thursday—July 27, 2000

Congress Plaza Hotel, 520 South Michigan Avenue, Chicago, IL 60605, Phone: 312-427-3800.

Tuesday—August 1, 2000

The Argent Hotel, 50 Third Street, San Francisco, CA 94103, Phone: 415-974-6400.

Place: See above.

Contact Person for More Information: Lydia Ogden, National Center for HIV, STD, and TB Prevention, Office of Planning and Policy Coordination, 1600 Clifton Road, NE, M/S E-07, Atlanta, Georgia 30333, telephone 404/639-8031. The Director, Management Analysis and Services Office, has been delegated the authority to sign Federal Register Notices pertaining to announcements of meetings and other committee management activities, for both the Centers for Disease Control and Prevention and the Agency for Toxic Substances and Disease Registry.

Dated: July 6, 2000.
Julia Fuller,
Acting Director, Management Analysis and Services Office, Centers for Disease Control and Prevention.

[FR Doc. 00-17572 Filed 7-11-00; 8:45 am]

BILLING CODE 4163-18-P